DEPARTMENT OF DEFENSE

Department of the Air Force

[Docket ID: USAF-2019-HQ-0003]

Proposed Collection; Comment Request

AGENCY: Department of the Air Force, DoD.

ACTION: Information collection notice.

SUMMARY: In compliance with the Paperwork Reduction Act of 1995, the Department of the Air Force announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 20, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the CIO, Headquarters Air Force Safety Center, ATTN: Mr. Douglas MacCurdy, 9700 G. Ave., Kirtland AFB, NM 87117, at 505-846-0675.

SUPPLEMENTARY INFORMATION:

Title; Associated Form; and OMB Number: Air Force Safety Automated System; AF978; OMB Control Number 0701-XXXX.

Needs and Uses: The Air Force Safety Automated System (AFSAS) and the AF978 are used to collect incident and witness information with regard to accidents involving Air Force personnel or property. The Air Force will use the collected information to conduct investigations and evaluate mishap events to prevent such incidents from recurring. The information collection is necessary to obtain and record name, email, and phone number of individuals who witness a mishap related to Air Force personnel or property and who volunteer to provide information about the incident. Respondents will include both DoD contractors and any non-government civilians who may witness an incident on an Air Force installation.

Affected Public: Individuals and households.

Annual Burden Hours: 1,202.

Number of Respondents: 2,403.

Responses per Respondent: 1.

Annual Responses: 2,403.

Average Burden per Response: 30 minutes.

Frequency: On occasion.

Dated: March 15, 2019.
Aaron T. Siegel,
Alternate OSD Federal Register Liaison Officer, Department of Defense.

[FR Doc. 2019-05310 Filed 3-20-19; 8:45 am]

BILLING CODE 5001-06-P